DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region Crab Economic Data Reports.

OMB Control Number: 0648-0518.

Form Number(s): None.

Type of Request: Regular (extension of a currently approved information collection).

Number of Respondents: 99.

Average Hours Per Response: Annual catcher vessel economic data report (EDR), 40 hours; annual catcher/processor EDR, 20 hours; annual processor EDR, 16 hours; EDR certification only, 2 hours; verification of data, 8 hours.

Burden Hours: 2,624.

Needs and Uses: The Crab Rationalization (CR) Program is a limited-access system that allocates crab managed under the Fisheries Management Plan (FMP) among harvesters, processors, and coastal communities. The CR Program currently includes a comprehensive economic data collection program requiring participants to complete annual Economic Data Reports (EDRs). These EDRs are intended to aid the North Pacific Fisheries Management Council and NMFS in assessing the success of the CR Program and developing amendments to the FMP to mitigate any unintended consequences of the CR Program.

Pacific States Marine Fisheries Commission (PSMFC) is the Data Collection Agent for the CR Program. The CR Crab EDR program collects annually reported cost, revenue, ownership, and employment data from harvest and processing sector participants in the CR fisheries. This information is necessary to monitor and assess the economic effects of the CR program and support rigorous economic analysis to promote the goals and objectives of the Magnuson-Stevens Fishery Conservation and Management Act.

Participation in the CR Crab EDR program is mandatory under Federal fisheries regulations 50 CFR part 680.6 for all active vessel and processing sector participants in the CR Program fisheries.

Affected Public: Business or other for-profit organizations; not-for-profit institutions.

Frequency: Annually.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: April 20, 2016.
Sarah Brabson,
NOAA PRA Clearance Officer.

[FR Doc. 2016-09523 Filed 4-22-16; 8:45 am]

BILLING CODE 3510-22-P